DEPARTMENT OF TRANSPORTATION

Office of the Secretary

Aviation Proceedings; Certificates of Public Convenience and Necessity and Foreign Air Carrier Permits

Notice of Applications for Certificates of Public Convenience and Necessity and Foreign Air Carrier Permits Filed Under subpart B (formerly subpart Q) during the Week Ending March 1, 2002. The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1997-2686.

Date Filed: February 26, 2002.

Due Date for Answers, Conforming Applications, or Motion to Modify Scope: March 19, 2002.

Description: Contingent Application of Delta Air Lines, Inc., pursuant to 49 U.S.C. Sections 41102, 41108 and subpart B, requesting renewal of its certificate of public convenience and necessity for Route 744, to engage in foreign air transportation of persons, property, and mail between a point or points in the United States, the intermediate point Zurich, Switzerland, and the terminal point Prague, Czech Republic.

Docket Number: OST-2002-11708.

Date Filed: February 26, 2002.

Due Date for Answers, Conforming Applications, or Motion to Modify Scope: March 19, 2002.

Description: Application of ExpressJet, d/b/a Continental Express, requesting the Department to disclaim jurisdiction and reissue a certificate, designations and code-sharing authority to New ExpressJet Airlines, Inc. (NewCo), which will be renamed ExpressJet Airlines, Inc. and do business as Continental Express.

Dorothy Y. Beard,
Federal Register Liaison.

[FR Doc. 02-6303 Filed 3-14-02; 8:45 am]

BILLING CODE 4910-62-P